UNITED STATES INTERNATIONAL TRADE COMMISSION

[Inv. No. 337-TA-479]

In the Matter of: Certain Coamoxiclav Products, Potassium Clavulanate Products, and Other Products Derived From Clavulanic Acid; Notice of Commission Decision Not to Review an Initial Determination Terminating the Investigation on the Basis of a Settlement Agreement

AGENCY: U.S. International Trade Commission.

ACTION: Notice.

SUMMARY: Notice is hereby given that the U.S. International Trade Commission has determined not to review the presiding administrative law judge's (“ALJ”) initial determination (“ID”) terminating the above-referenced investigation in its entirety based on a settlement agreement.

FOR FURTHER INFORMATION CONTACT: Jean Jackson, Esq., Office of the General Counsel, U.S. International Trade Commission, 500 E Street, SW., Washington, DC 20436, telephone (202) 205-3104. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TTD terminal on (202) 205-1810. The public record for this investigation may be viewed on the Commission's electronic docket (EDIS) at http://edis.usitc.gov. General information concerning the Commission may also be obtained by accessing its internet server (http://www.usitc.gov).

SUPPLEMENTARY INFORMATION: The Commission instituted this investigation on September 5, 2002, based on a complaint filed by GlaxoSmithKline, PLC of the United Kingdom and SmithKlineBeecham d/b/a GlaxoSmithKline of Philadelphia, Pennsylvania (collectively, GSK) alleging a violation of section 337 of the Tariff Act of 1930 in the importation, sale for importation, and sale after importation of certain coamoxiclav products, potassium clavulanate products, and other products derived from clavulanic acid products and potassium clavulanate by reason of misappropriation of trade secrets and unfair competition. 67 FR 57850. The complainant named Biochemie GmbH, of Austria, Biochemie SpA, of Italy, Novartis AG of Switzerland, and Geneva Pharmaceuticals of New Jersey as respondents.

On July 11, 2003, the ALJ issued an ID granting a joint motion by GSK and all respondents to the investigation to terminate the investigation on the basis of a settlement agreement. The motion was supported by the Commission investigative attorney. No petitions for review of the ID were filed.

The authority for the Commission's determination is contained in section 337 of the Tariff Act of 190, as amended, 19 U.S.C. 1337, and in section 210.42(h) of the Commission's Rules of Practice and Procedure, 19 CFR 210.42(h).

Issued: August 5, 2003.
By order of the Commission.
Marilyn R. Abbott,
Secretary to the Commission.

[FR Doc. 03-20492 Filed 8-11-03; 8:45 am]

BILLING CODE 7020-02-P